DEPARTMENT OF TRANSPORTATION

National Highway Traffic Safety Administration

[Docket No. NHTSA-2024-0054]

Agency Information Collection Activities; Submission to the Office of Management and Budget for Review and Approval; Request for Comment; Limousine Crashworthiness Safety Research

AGENCY: National Highway Traffic Safety Administration (NHTSA), Department of Transportation (DOT).

ACTION: Notice and request for comments on a request for approval of a new collection of information.

SUMMARY: In compliance with the Paperwork Reduction Act of 1995 (PRA), this notice announces that the Information Collection Request (ICR) summarized below will be submitted to the Office of Management and Budget (OMB) for review and approval. The ICR describes the nature of the information collection and its expected burden. This ICR is a new information collection by NHTSA for the purpose of researching limousine crash safety. A Federal Register Notice with a 60-day comment period soliciting comments on the information collection was published on October 7, 2024. One comment was received expressing support; thus, there are no changes to the planned collection from that proposed in the previous notice.

DATES: Comments must be submitted on or before May 30, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Ian Hall, Structures and Restraints Research Division (NSR-210), (202) 366-4714, National Highway Traffic Safety Administration, W46-443, U.S. Department of Transportation, 1200 New Jersey Avenue SE, Washington, DC 20590. Please identify the relevant collection of information by referring to its OMB Control Number.

SUPPLEMENTARY INFORMATION: Under the PRA (44 U.S.C. 3501 et seq.), a Federal agency must receive approval from the Office of Management and Budget (OMB) before it collects certain information from the public, and a person is not required to respond to a collection of information by a Federal agency unless the collection displays a valid OMB control number. In compliance with these requirements, this notice announces that the following information collection request will be submitted OMB.

Title: Limousine Crashworthiness Safety Research.

OMB Control Number: New.

Form Number(s): NHTSA Form 1802 Interview Guide—OEM; NHTSA Form 1803 Interview Guide—OEM Program Non-Participant; NHTSA Form 1804 Interview Guide—OEM Program Participant.

Type of Request: New.

Type of Review Requested: Regular.

Length of Approval Requested: 3 years from date of approval.

Summary of the Collection of Information:

In an effort to comply with a Congressional mandate and understand the limousine market and the characteristics of limousine vehicles with respect to crashworthiness and occupant safety, NHTSA is seeking approval for a new ICR.

Many federal safety regulations (e.g., Federal Motor Vehicle Safety Standards [FMVSS] Nos. 207, 208, 209, and 210) do not currently apply to limousines; as a result, the extent of limousine crash safety features and performance is not well known. Since limousine manufacturers fall into one of three categories (vehicle original equipment manufacturers [OEM], OEM program participants, and OEM program nonparticipants), each of which uses distinct methods for vehicle fabrication and vehicle design, NHTSA must conduct this research with survey tools targeting each of those specific categories. The research approach consists of one-time voluntary interviews with members of the three groups related to the limousine market: (a) vehicle OEMs, (b) OEM program participants, and (c) OEM program nonparticipants. The interviews will consist of open-ended questions regarding limousine fabrication and are intended to report on safety characteristics related to evacuation, crashworthiness, occupant seating, and restraints. Three versions of the interview will be used, one for each category of manufacturer. Interview results will be collected and summarized in a final report available for public consumption via the National Transportation Library, and the data will help inform NHTSA actions in alignment with the Infrastructure Investment and Jobs Act (IIJA).

Description of the Need for the Information and Proposed Use of the Information:

On November 15, 2021, Public Law 117-58, also known as IIJA, became law. Sections 23015 and 23023 of IIJA mandate that the Secretary of Transportation, NHTSA through delegation, conduct a variety of research and actions. These include research into the development of motor vehicle safety standards for side impact protection, roof crush resistance, and air bag systems for the protection of occupants in limousines with alternative seating positions—including perimeter seating arrangements; safety features and standards that aid evacuation in the event that an exit in the passenger compartment of a limousine is blocked; and amending FMVSS Nos. 207, 208, 209, and 210 such that they apply to limousines for each designated seating position, including side-facing seats. This information collection will also aid in any cost-benefit analyses that would be required for promulgating new federal safety regulation and other regulatory alternative considerations if those actions are deemed necessary and appropriate.

60-Day Notice:

A Federal Register notice with a 60-day comment period soliciting public comments on the following information collection was published on October 7, 2024 (89 FR 81134). NHTSA received one comment during the 60-day comment period. The comment came from the National Association of Mutual Insurance Companies (NAMIC) and expressed support for NHTSA's information collection. Specifically, the comment stated that “NAMIC supports this effort and the intended safety goal. The proposed collection of information seems reasonably necessary to assist in safety determinations and to have practical utility.” Additionally, NHTSA notified the public about the research and the opportunity to comment on the information collection at the NHTSA Safety Research Portfolio Public Meeting,¹ which had an approximate attendance of 1,228. NHTSA opened docket NHTSA-2024-0040 to announce and receive comments regarding the NHTSA Safety Research Portfolio Public Meeting at which this research was discussed. Four comments were received to this docket; however, none of the comments referenced the Limousine Study.² With no specific feedback to the information requested during the study nor comments regarding the burden estimates, no changes were made to the study.

¹ https://www.nhtsa.gov/events/nhtsa-safety-research-portfolio-public-meeting-fall-2024. Day 1: Opening Remarks & Crashworthiness: 21:50.

² https://www.regulations.gov/docket/NHTSA-2024-0040/comments.

Affected Public:

This includes selected limousine manufacturers/fabricators who will fall into one of three categories, including vehicle OEMs, limousine fabricators associated with an OEM limousine program (OEM program participants), and limousine fabricators not associated with an OEM program (OEM program nonparticipants). Participation is voluntary.

Estimated Annual Number of Respondents: 53.

Frequency: Once.

Estimated Annual Number of Responses: 53.

Estimated Annual Burden Hours: 53 hours.

This information collection will consist of interviews conducted across three categories of limousine manufacturers: vehicle OEMs, OEM program participants, and OEM program nonparticipants. The interviews in this ICR will be one-time responses of limousine manufacturers. For each manufacturer type, the target for minimum number of responses is 10, plus an approximately equal distribution of the 11 remaining planned interviews to arrive at a total of a minimum of 41 successful responses. Respondents in some of the groups may be more difficult for interview completion than others; thus, the target maximum respondent outreach of 160 contacts is as follows: a maximum of 20 OEMs will be contacted in total with an annual average of seven OEMs contacted (greatest expected response rate), a maximum of 40 OEM program participants will be contacted in total with an annual average of 13 OEM program participants contacted (mid-range expected response), and a maximum of 100 OEM program nonparticipants will be contacted in total with an annual average of 33 OEM program nonparticipants contacted (these will be the smaller businesses, and response rate is expected to be low).

While each interview guide varies slightly, the time to complete the interview is not expected to vary greatly with an average of 60 minutes per interview. While NHTSA and the research team will discontinue the interview process after a minimum of 41 successful responses is complete across a relatively equal distribution of the categories, there is no similar study to calculate response rates or average completion time of an incomplete response or declined interview. Therefore, for calculation of burden, NHTSA and the research team have used the maximum number of contacts to provide an absolute maximum burden. The table below provides estimated burden costs and hours, both total burden and annual burden. Based on the average interview time from a preliminary round of nine interviews with limousine manufacturers, the time required to complete each interview is expected to be 60 minutes. This results in a total burden to respondents of 160 hours over the three-year study and an annual burden of 53 hours.

The database of respondents for limousine manufacturers will be from S&P Global Mobility and their extensive canvasing of the automotive industry. The respondents in each category will be selected at random and given the opportunity to accept or decline the interview before moving on to the subsequent outreach effort.

Table 1 provides a summary of the estimated burden hours associated with those submissions. Note there are slight variations between the total and the annual figures based on rounding.

Table 1—Burden Estimates
Information collection | Number of respondents (total/annual) | Frequency of response | Time (minutes) | Burden hours
Interview Guide—OEM (NHTSA Form 1802) | 20 total/7 annual | 1 | 60 | 20 total/7 annual.
Interview Guide—OEM Program Participant (NHTSA Form 1804) | 40 total/13 annual | 1 | 60 | 40 total/13 annual.
Interview Guide—OEM Program Nonparticipant (NHTSA Form 1803) | 100 total/33 annual | 1 | 60 | 100 total/33 annual.
Total Burden |  |  |  | 160.
Annualized Burden |  |  |  | 53.

Estimated Total Annual Cost Burden: $0.

There will be no start-up or record-keeping costs to respondents to complete the interviews. Respondents are completing the interview in-person or via phone, and no equipment or software is required for completion.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Cem Hatipoglu,
Associate Administrator, Office of Vehicle Safety Research.

[FR Doc. 2025-07447 Filed 4-29-25; 8:45 am]

BILLING CODE 4910-59-P